FEDERAL COMMUNICATIONS COMMISSION

[FR ID 58310]

Open Commission Meeting Thursday, November 18, 2021

November 10, 2021.

The Federal Communications Commission will hold an Open Meeting on the subjects listed below on Thursday, November 18, 2021, which is scheduled to commence at 10:30 a.m.

Due to the current COVID-19 pandemic and related agency telework and headquarters access policies, this meeting will be in a wholly electronic format and will be open to the public on the internet via live feed from the FCC's web page at www.fcc.gov/live and on the FCC's YouTube channel.

Item No. | Bureau | Subject
1 | WIRELINE COMPETITION | Title: Enabling Text-to-988 (WC Docket No. 18-336).
|  | Summary: The Commission will consider a Second Report and Order that would require covered text providers to support text messaging to 988 by routing certain text messages sent to 988 to the National Suicide Prevention Hotline by July 16, 2022.
2 | WIRELESS TELE-COMMUNICATIONS | Title: Enhanced Competition Incentive Program for Wireless Radio Services (WT Docket No. 19-38).
|  | Summary: The Commission will consider a Further Notice of Proposed Rulemaking proposing an Enhanced Competition Incentive Program (ECIP) and other rule changes intended to promote competition, access to spectrum by small carriers and Tribal Nations, and expanded rural wireless coverage.
3 | MEDIA | Title: Updating FM Radio Directional Antenna Verification (MB Docket No. 21-422).
|  | Summary: The Commission will consider a Notice of Proposed Rulemaking to allow applicants proposing directional FM antennas the option of verifying the directional antenna pattern through computer modeling.
4 | INTERNATIONAL | Title: Kinéis Low-Earth Orbit Satellites Market Access (IBFS File No. SAT-PDR-20191011-00113).
|  | Summary: The Commission will consider an Order and Declaratory Ruling on Kinéis' petition to access the U.S. market using a low-earth orbit satellite system to provide connectivity for Internet of Things devices, as well as enhancements to maritime domain awareness through monitoring of maritime communications.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530. Additional information concerning this meeting may be obtained from the Office of Media Relations, (202) 418-0500. Audio/Video coverage of the meeting will be broadcast live with open captioning over the internet from the FCC Live web page at www.fcc.gov/live.

Federal Communications Commission.
Marlene Dortch,
Office of the Secretary.

[FR Doc. 2021-25085 Filed 11-16-21; 8:45 am]

BILLING CODE 6712-01-P